FEDERAL ELECTION COMMISSION

Sunshine Act Notice

AGENCY: Federal Election Commission.

DATE & TIME: Thursday, August 2, 2012 at 10:00 a.m.

PLACE: 999 E Street NW., Washington, DC (Ninth Floor).

STATUS: This meeting will be open to the public.

Items To Be Discussed

Correction and Approval of the Minutes for the Meeting of June 21, 2012.

Draft Advisory Opinion 2012-22: skimmerhat.

Draft Advisory Opinion 2012-23: Snake River Sugar Company, Nyssa-Nampa Sugarbeet Growers Association, Inc., Elwyhee Sugarbeet Growers Association, Inc., Upper Snake River Valley Sugarbeet Growers Association, Inc., Minidoka County Sugarbeet Growers Association, Inc., Cassia County Sugarbeet Growers Association, Inc., Twin Falls County Sugarbeet Growers Association, Inc., and Northside Sugarbeet Growers Association, Inc.

Draft Advisory Opinion 2012-24: Dean Peterson.

Draft Advisory Opinion 2012-26: m-Qube, Inc., ArmourMedia, Inc. and Cooper for Congress Committee.

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-18686 Filed 7-26-12; 4:15 pm]

BILLING CODE 6715-01-P